DEPARTMENT OF ENERGY

Federal Energy Regulatory Commission

[Docket No. EF06-4081-000]

Southwestern Power Administration, Robert Douglas Willis Hydropower Project; Notice of Filing

January 9, 2006.

Take notice that on December 23, 2005, the Deputy Secretary of the Department of Energy, confirmed and approved on an interim basis Rate Order No. SWPA-55 effective January 1, 2006 through September 30, 2009, which establishes the annual rate of $648,096 for the sale of power and energy by the Southwestern Power Administration from the Robert Douglas Will Hydropower Project to the Sam Rayburn Municipal Power Agency. The Rate Order states this rate supersedes the annual rate which was confirmed and approved on a final basis by the Commission on June 24, 2004 for the period of November 1, 2004, through September 30, 2007, in Docket No. EF04-4081-000. The new rate was submitted to the Commission for final confirmation and approval on December 27, 2005.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 26, 2006.

Magalie R. Salas,
Secretary.

[FR Doc. E6-478 Filed 1-18-06; 8:45 am]

BILLING CODE 6717-01-P